DEPARTMENT OF TRANSPORTATION

Federal Aviation Administration

14 CFR Part 23

Airworthiness Standards: Normal, Utility, Acrobatic, and Commuter Category Airplanes; Correction

AGENCY: Federal Aviation Administration (FAA), DOT.

ACTION: Correcting amendment.

SUMMARY: This document makes a correction to the final rule published in the Federal Register on August 6, 1993 (58 FR 42165). That rule changed airframe and flight airworthiness standards for normal, utility, acrobatic and commuter category airplanes.

DATES: Effective Date: This correction is effective on January 5, 2006.

FOR FURTHER INFORMATION CONTACT: Joan Allen, telephone (202) 267-7037.

SUPPLEMENTARY INFORMATION:

Need for Correction

As published, the final regulation contains an error which may be misleading and needs to be clarified.

List of Subjects in 14 CFR Part 23

Aircraft, Aviation safety, Signs and symbols.

Accordingly, 14 CFR part 23 is corrected by making the following correcting amendment:

1. The authority citation for part 23 continues to read as follows:

Authority: 49 U.S.C. 106(g), 40113, 44701-44702, 44704.

2. Revise paragraph (b) of § 23.773 to read as follows:

§ 23.773 Pilot compartment view.

* * * * *

(b) Each pilot compartment must have a means to either remove or prevent the formation of fog or frost on an area of the internal portion of the windshield and side windows sufficiently large to provide the view specified in paragraph (a)(1) of this section. Compliance must be shown under all expected external and internal ambient operating conditions, unless it can be shown that the windshield and side windows can be easily cleared by the pilot without interruption of normal pilot duties.

Issued in Washington, DC, on December 29, 2005.
Anthony F. Fazio,
Director, Office of Rulemaking.

[FR Doc. 06-85 Filed 1-4-06; 8:45 am]

BILLING CODE 4910-13-P